DEPARTMENT OF INTERIOR

Bureau of Land Management

DEPARTMENT OF AGRICULTURE

Forest Service

[OR-930-1610-PB-LITI; HAG03-0050]

Notice of Intent To Prepare a Supplemental Environmental Impact Statement To Amend Land and Resource Management Plans in Southwest Oregon for Management of Port-Orford-Cedar

AGENCIES: Bureau of Land Management, USDI and Forest Service, USDA.

ACTION: Notice of intent and initiation of public scoping.

SUMMARY: The Bureau of Land Management (BLM) and Forest Service are initiating work on a Supplemental Environmental Impact Statement (SEIS) to consider management alternatives for Port-Orford-Cedar in the Oregon portion of its natural range in southwestern Oregon and northwestern California. The SEIS is a joint effort by the Oregon/Washington BLM and the Pacific Northwest Region of the Forest Service, with BLM as the lead agency. The Pacific Southwest Region of the Forest Service is a cooperator. Specific administrative units include the Coos Bay, Medford, and Roseburg District of the BLM and the Siskiyou, Six Rivers, Klamath, and Shasta-Trinity National Forests. Additional cooperators may be identified through the scoping process. The SEIS will respond to analysis deficiencies identified in March, 2002 by the United States Court of Appeals for the Ninth Circuit relating to a District Court decision in Kern vs. U.S. Bureau of Land Management, 284 F.3d 1062 (9th Cir. 2002). This decision concluded that analysis of cumulative effects of the current management guidelines were inadequate for the Sandy-Remote Environmental Assessment because it did not extend to the entire range of Port-Orford-Cedar. The SEIS will develop alternative management strategies for the Oregon portion of the species range and analyze effects of those strategies throughout the entire natural range of the species.

The SEIS will amend the land management plan for the Siskiyou National Forest and the resource management plans for the Coos Bay, Medford, and Roseburg Districts of the Bureau of Land Management. The BLM will work collaboratively with interested parties to identify the management decisions that are best suited to local, regional, and national needs and concerns. The SEIS will fulfill the needs and obligations set forth by the National Environmental Policy Act (NEPA), the Federal Land Policy and Management Act (FLPMA), and BLM and Forest Service management policies.

DATES: This notice initiates the public scoping process. Public scoping will be used to identify interested and affected individuals and groups, and to identify issues associated with the management of Port-Orford-Cedar. Briefing materials are available on line at http://www.or.blm.gov/planning/Port-Orford-Cedar_SEIS/. Comments concerning the scope of the analysis should be received 30 days from publication of this notice in the Federal Register. No formal public scoping meetings are scheduled, but may be scheduled if there is sufficient interest. Public scoping meetings will be announced in local newspapers and at http://www.or.blm.gov/planning/Port-Orford-Cedar_SEIS/ at least 15 days prior to the event. Early participation is encouraged and will help determine the future management of Port-Orfort-Cedar on public lands in California and Oregon. In addition to the ongoing public participation process, formal opportunities for public participation will be provided through comment on the alternatives and upon publication of the BLM draft RMP/EIS.

ADDRESSES: Written comments should be sent to the Port-Orford-Cedar EIS Team, PO Box 2965, Portland, OR 97208. Comments may be submitted electronically to the following e-mail address: orpoceis@or.blm.gov. Comments, including names and street addresses of respondents, will be available for public review at the Oregon State Office, BLM reading room, 333 SW., 1st Avenue, Portland, OR 97204, and may be published as part of the EIS. If you wish to withhold your name or address from public review or from disclosure under the Freedom of Information Act, you must state this prominently at the beginning of your written comment. Such requests will be honored to the extent allowed by law. All submissions from organizations or businesses, submitted on official letterheads, and from individuals identifying themselves as representatives or officials of organization or businesses, will be made available for public inspection in their entirety.

FOR FURTHER INFORMATION CONTACT: Ken Denton, Bureau of Land Management, Port-Orford-Cedar EIS Team, PO Box 2965, Portland, OR 97208.

SUPPLEMENTARY INFORMATION: A root disease, Phytophthora lateralis, currently infects Port-Orford-Cedar. Research shows the rate of spread of the root disease is linked, at least in part, to transport of spore-infected soil by human and other vectors. Water-borne spores then readily spread the disease down slope and down stream. The participating agencies believe, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the agencies at a time when it can meaningfully consider them and respond to them in the final EIS.

Current BLM management direction requires all management activities within the range of Port-Orford-Cedar conform to guidelines described in the Port-Orford Cedar Management Policies. These Policies are designed to mitigate damage caused by Phytophthora lateralis.

Current Forest Service management direction requires all management activities within the range of Port-Orford-Cedar conform to guidelines described in the Siskiyou Forest Plan in Oregon and the Six Rivers, Klamath, and Shasta-Trinity Forest Plans in California.

The responsible official for the Forest Service is the Pacific Northwest Regional Forester.

The responsible official for the Bureau of Land Management is the Oregon/Washington State Director.

Charles Wassinger,
Acting State Director, Bureau of Land Management.
Richard W. Sowa,
Acting Regional Forester, U.S. Forest Service, Region 6.

[FR Doc. 03-3172 Filed 2-7-03; 8:45 am]

BILLING CODE 4310-33-P; 3410-11-P